FEDERAL COMMUNICATIONS COMMISSION

Notice of Public Information Collection(s) Being Reviewed by the Federal Communications Commission

May 31, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 12, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0863.

Title: Satellite Delivery of Network Signals to Unserved Households for Purposes of the Satellite Home Viewer Act (SHVA).

Form Number: N/A.

Type of Review: Extension of a currently approved collection.

Respondents: Business or other for non-profit entities.

Number of Respondents: 848.

Estimated Time per Response: 30 minutes.

Frequency of Response: Recordkeeping; On occasion reporting requirements.

Total Annual Burden: 125,000 hours.

Total Annual Costs: $13,000.

Needs and Uses: In February 1999, the FCC released a Report and Order (R&O) that described a method for measuring the Grade B signal strength at a household so that the satellite and broadcast industries and consumers would have a uniform method for calibrating actual household signal strength and thereby determine which consumers are “unserved” by over-the-air network signals. The written records of test results are made after testing and predicting the strength of a television station's signal. The R&O also endorsed a computer model to predict whether a household is likely to be able to receive a signal of the required strength.

OMB Control Number: 3060-0055.

Title: FCC Form 327, Application for Cable Television Relay Service Station (CARS) Authorization.

Form Number: FCC 327.

Type of Review: Extension of a currently approved collection.

Respondents: Business or other for-profit entities; Individuals or households, State, local or tribal governments.

Number of Respondents: 973.

Estimated Time per Response: 3 hrs. 10 mins. (3.166 hrs.).

Frequency of Response: Recordkeeping; On occasion reporting requirements.

Total Annual Burden: 3,081 hours.

Total Annual Costs: $184,870.

Needs and Uses: Under 47 CFR Sections 78.11-78.40 of FCC Rules, an applicant files FCC Form 327 to obtain an initial license or the modification, transfer, assignment, or renewal of an existing Cable Television Relay Service (CARS) microwave radio license. Franchised cable systems and other eligible services use the 12 GHz and 18 GHz CARS bands for microwave relays pursuant to 47 CFR part 78 of the Commission's Rules. CARS is principally a video transmission service used for intermediate links in a distribution network, i.e., CARS stations relay broadcast television, low power television, AM, FM, and cablecasting video and audio signal transmissions for and supply program material to these various broadcast transmission systems using point-to-point and point-to-multipoint transmissions.

OMB Control Number: 3060-0061.

Title: FCC Form 325, Annual Report of Cable Television Systems.

Form Number: FCC 325.

Type of Review: Extension of a currently approved collection.

Respondents: Business and other for-profit entities.

Number of Respondents: 1,100.

Estimated Time per Response: 1-2 hours.

Frequency of Response: Annual reporting requirements.

Total Annual Burden: 3,600 hours.

Total Annual Costs: $4,000.

Needs and Uses: The FCC uses Form 325 to solicit basic operational information from all cable systems nationwide, including: The operator's name and address; system-wide capacity and frequency information; channel usage; and number of subscribers. Operators of every operational cable television system are currently required to complete the form to verify, correct, and/or furnish the FCC with the most current information on their respective cable systems.

OMB Control Number: 3060-0688.

Title: Abbreviated Cost-of-Service Filing for Cable Network Upgrades.

Form Number: FCC 1235.

Type of Review: Extension of a currently approved collection.

Respondents: Business and other for-profit entities; State, local or tribal governments.

Number of Respondents: 100.

Estimated Time per Response: 10-20 hours.

Frequency of Response: On occasion reporting requirements.

Total Annual Burden: 1,500 hours.

Total Annual Costs: $200.

Needs and Uses: FCC Form 1235 is an abbreviated cost of service filing for significant network upgrades that allows cable operators to justify rate increases related to capital expenditures used to improve rate-related cable services. The FCC Form 1235 is reviewed by the cable operator's respective local franchise authority.

Federal Communications Commission.
Marlene Dortch,
Secretary.

[FR Doc. 02-14646 Filed 6-10-02; 8:45 am]

BILLING CODE 6712-01-P